DEPARTMENT OF LABOR

Occupational Safety and Health Administration

Susan Harwood Training Grant Program, FY 2024; Availability of Funds and Funding Opportunity Announcements

AGENCY: Occupational Safety and Health Administration (OSHA), Labor.

ACTION: Notice of availability of funds and funding opportunity announcements.

SUMMARY: This notice announces available funding for Susan Harwood Training Grant Program grants. Three separate funding opportunity announcements are available for Targeted Topic Training grants, Training and Educational Materials Development grants, and new Capacity Building grants.

DATES: Grant applications for Susan Harwood Training Program grants must be received electronically by the Grants.gov system no later than 11:59 p.m., ET, on July 26, 2024.

ADDRESSES: The complete Susan Harwood Training Grant Program funding opportunity announcements and all information needed to apply are available at the Grants.gov website, www.grants.gov.

FOR FURTHER INFORMATION CONTACT: Questions regarding the funding opportunity announcement should be emailed to Donna Robertson at HarwoodGrants@dol.gov or directed to OSHA via telephone at 847-725-7805. Personnel will not be available to answer questions after 5:00 p.m. ET. To obtain further information on the Susan Harwood Training Grant Program, visit the OSHA website at www.osha.gov/harwoodgrants. Questions regarding Grants.gov should be emailed to Support@grants.gov or directed to Applicant Support toll free at 1-800-518-4726. Applicant Support is available 24 hours a day, 7 days a week except Federal holidays.

SUPPLEMENTARY INFORMATION: The complete Susan Harwood Training Grant Program funding opportunity announcements instructions and information needed to apply are available at the Grants.gov website, www.grants.gov. On the grants.gov website, please reference the following Funding Opportunity Numbers and Catalog of Federal Domestic Assistance Number below to find the relevant announcements and information:

Funding Opportunity Number: SHTG-FY-24-01 (Targeted Topic Training).

Funding Opportunity Number: SHTG-FY-24-02 (Training and Educational Materials Development).

Funding Opportunity Number: SHTG-FY-24-03 (Capacity Building).

Catalog of Federal Domestic Assistance Number: 17.502.

Authority and Signature

Douglas L. Parker, Assistant Secretary of Labor for Occupational Safety and Health, directed the preparation of this notice. The authority for this notice is Section 21 of the Occupational Safety and Health Act of 1970, (29 U.S.C. 670), Public Law 118-47, and Secretary of Labor's Order No. 8-2020 (85 FR 58393, September 18, 2020).

Signed at Washington, DC, on June 20, 2024.
Douglas L. Parker,
Assistant Secretary of Labor for Occupational Safety and Health.

[FR Doc. 2024-13934 Filed 6-25-24; 8:45 am]

BILLING CODE 4510-26-P